DEPARTMENT OF COMMERCE

International Trade Administration

[A-421-805]

Aramid Fiber Formed of PolyPara-Phenylene Terephthalamide from the Netherlands; Preliminary Results of Full Sunset Review

AGENCY: Import Administration, International Trade Administration, Department of Commerce.

ACTION: Notice of preliminary results of full sunset review: aramid fiber formed of polypara-phenylene terephthalamide from the netherlands.

SUMMARY: On December 1, 1999, the Department of Commerce (“the Department”) initiated a sunset review of the antidumping duty order on aramid fiber formed of polypara-phenylene terephthalamide (“Aramid Fiber”) from the Netherlands (64 FR 67247) pursuant to section 751(c) of the Tariff Act of 1930, as amended (“the Act”). On the basis of a notice of intent to participate filed on behalf of domestic interested parties and adequate substantive comments filed on behalf of domestic and respondent interested parties, the Department determined to conduct a full review. As a result of this review, the Department preliminarily finds that revocation of the antidumping duty order would likely lead to continuation or recurrence of dumping at the levels indicated in the Preliminary Results of Review section of this notice.

Effective Date: June 23, 2000.

For Further Information Contact: Martha V. Douthit or James P. Maeder, Office of Policy for Import Administration, International Trade Administration, U.S. Department of Commerce, 14th Street & Constitution Avenue, NW, Washington, DC 20230; telephone: (202) 482-5050 or (202) 482-3330, respectively.

SUPPLEMENTARY INFORMATION:

Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“the Department's”) regulations are to 19 CFR Part 351 (1999). Guidance on methodological or analytical issues relevant to the Department's conduct of sunset reviews is set forth in the Department Policy Bulletin 98:3—Policies Regarding the Conduct of Five-year (“Sunset”) Reviews of Antidumping and Countervailing Duty Orders; Policy Bulletin, 63 FR 18871 (April 16, 1998) (“Sunset Policy Bulletin”).

Background

On December 1, 1999, the Department initiated a sunset review of the antidumping order on aramid fiber formed of polypara-phenylene terephthalamide (“Aramid Fiber”) from the Netherlands (65 FR 67247), pursuant to section 751(c) of the Act. On December 16, 1999, the Department received a notice of intent to participate on behalf of E.I. DuPont de Nemours & Company (“DuPont”), within the deadline specified in section 351.218(d)(1)(i) of the Sunset Regulations. DuPont claimed interested-party status under section 771(9)(C) of the Act, as a U.S. producer of aramid fiber. In its notice of intent to participate, Du Pont stated that it is related to two foreign producers of aramid fiber: DuPont (UK) Ltd., Maydown Works, United Kingdom, and DuPont Toray Company, Ltd., Japan.⁶

⁶ See DuPont's December 16, 2000, Notice of Intent to Participate, at 2. DuPont asserts that DuPont (UK) is 100 percent owned by DuPont, DuPont Toray Company, Ltd., is 50 percent owned by DuPont Kabushkik Kaisha (“DKK”) and 50 percent owned by Toray, and DKK is 100 percent owned by DuPont Asia Pacific, Ltd., which is owned 100 percent by DuPont.

On January 3, 2000, within the 30-day deadline specified in the Sunset Regulations under section 351.218(d)(3)(i), the Department received complete substantive response from the domestic interested-party, DuPont, and respondent interested parties (Twaron Products V.o.F. and Twaron Products Inc. (collectively “Twaron”)). Twaron Products V.o.F claimed interested-party status under section 771(9)(A) of the Act, as foreign manufacturer/producer/exporter of the subject merchandise to the United States. Twaron Products Inc., claimed interested-party status as a U.S. importer of the subject merchandise. In its January 3, 2000, substantive response, Twaron asserts that it has participated in all prior phases of this antidumping duty order. The effective date of this order is June 27, 1994.

The regulations provide, at section 351.218(e)(1)(ii)(A), that the Secretary normally will conclude that respondent interested-parties have provided adequate response to a notice of initiation where it receives complete substantive responses from respondent interested parties accounting on average for more than 50 percent, by volume, or value basis if appropriate, of the total exports of the subject merchandise to the United States over the five calendar years preceding the year of publication of the notice of initiation. See also Procedures for Conducting Five-year (“Sunset”) Reviews of Antidumping Duty and Countervailing Duty Orders, 63 Fed. Reg. 13516 (March 20, 1998). On January 21, 2000, the Department determined that Twaron response constituted an adequate response to the notice of initiation. As a result, the Department determined, in accordance with section 351.218(e)(2)(i) of the Sunset Regulations, to conduct a full (240 day) sunset review.

On January 10, 2000, the Department received rebuttal comments on behalf of the domestic and respondent interested parties, within the deadline as specified under section 351.218(d)(4).⁷

⁷ On January 3, 2000, the Department received a request for an extension to file rebuttal comments on behalf of Twaron. The Department granted the extension to file rebuttal comment to all interested-parties in this case until no later than January 10, 2000.

In accordance with section 751(c)(5)(C)(v) of the Act, the Department may treat a sunset review as extraordinarily complicated if it is a review of a transition order (i.e., an order in effect on January 1, 1995). On March 20, 2000 the Department determined that the sunset review of the antidumping duty order on aramid fiber from the Netherlands is extraordinarily complicated pursuant to section 751(c)(5)(C)(v) of the Act, and extended the time limit for completion of the preliminary results of this review until not later than June 19, 2000, in accordance with section 751(c)(5)(B) of the Act.⁸

⁸ See Extension of Time Limit for Final Results of Expedited Five-Year Reviews, 65 FR 16166 (March 27, 2000).

Scope of the Order

The products covered by this review are all forms of aramid fiber formed of polypara-phenylene terephthalamide from the Netherlands. These consist of polypara-phenylene terephthalamide aramid in the form of filament yarn (including single and corded), staple fiber, pulp (wet or dry), spun-laced and spun-bonded nonwovens, chopped fiber, and floc. Tire cord is excluded from the class or kind of merchandise under review. This merchandise is currently classifiable under the Harmonized Tariff Schedule of the United States (“HTSUS”) item numbers 5402.10.3020, 5402.10.3040, 5402.10.6000, 5503.10.1000, 5503.10.9000, 5601.30.0000, and 5603.00.9000. The HTSUS item numbers are provided for convenience and Customs purposes. The written description of the scope remains dispositive.

Analysis of Comments Received

All issues raised in the case and rebuttal briefs by parties to this sunset review are addressed in the “Issues and Decision Memorandum” (“Decision Memo”) from Jeffrey A. May, Director, Office of Policy, Import Administration, to Troy H. Cribb, Acting Assistant Secretary for Import Administration, dated June 19, 2000, which is hereby adopted by this notice. The issues discussed in the attached Decision Memo include the likelihood of continuation or recurrence of dumping and the magnitude of the margin likely to prevail were the order revoked. Parties can find a complete discussion of all issues raised in this review and the corresponding recommendations in this public memorandum which is on file in the Central Records Unit, room B-099, of the main Commerce Building.

In addition, a complete version of the Decision Memo can be accessed directly on the Web at www.ita.doc.gov/import_admin/records/frn. The paper copy and electronic version of the Decision Memo are identical in content.

Preliminary Results of Review

The Department preliminary determines that revocation of the antidumping duty order on a on aramid fiber formed of polypara-phenylene terephthalamide from the Netherlands would be likely to lead to continuation or recurrence of dumping. The Department, therefore, will report to the Commission the company-specific and “all other” rates from the original investigation listed below.

Manufacturer/Exporter | Margin (percent)
Azko | 2.90
All others | 66.92

Any interested party may request a hearing within 30 days of publication of this notice in accordance with 19 CFR 351.310(c). Any hearing, if requested, will be held on August 16, 2000, in accordance with 19 CFR 351.310(d). Interested parties may submit case briefs, no later than August 7, 2000, in accordance with 19 CFR 351.309(c)(1)(i). Rebuttal briefs, which must be limited to issues raised in the case briefs, may be filed not later than August 14, 2000. The Department will issue a notice of final results of this sunset review, which will include the results of its analysis of issues raised in any such comments, no later than October 26, 2000.

This five-year (“sunset”) review and notice are in accordance with sections 751 (c), 752, and 777(i)(1) of the Act.

Dated: June 19, 2000.
Richard W. Moreland,
Acting Assistant Secretary for Import Administration.

[FR Doc. 00-15962 Filed 6-22-00; 8:45 am]

BILLING CODE 3510-DS-P